DEPARTMENT OF ENERGY

Federal Energy Regulatory Commission

[Docket No. CP11-520-000]

Northwest Pipeline GP; Notice of Request Under Blanket Authorization

Take notice that on July 26, 2011, Northwest Pipeline GP (Northwest), 295 Chipeta Way, Salt Lake City, Utah 84108, filed a prior notice request pursuant to sections 157.205, 157.208, and 157.210 of the Commission's regulations under the Natural Gas Act (NGA) and Northwest's blanket certificate issued in Docket No. CP82-433-000 for authorization to replace, construct and operate certain mainline pipeline facilities (North Seattle Delivery Lateral Expansion Project) located in Snohomish County, Washington to provide 84,200 dekatherms per day of new delivery capacity for Puget Sound Energy Inc. (Puget). Specifically, Northwest proposes to replace 2.2 miles of 8-inch diameter pipeline on the North Seattle Delivery Lateral with new 20-inch diameter pipeline, modify a meter station, and install miscellaneous appurtenances at a cost of approximately $12.8 million for which Northwest will be reimbursed by Puget through a facilities charge, all as more fully set forth in the application, which is on file with the Commission and open to public inspection.

The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Any questions regarding this prior notice should be directed to Pam Barnes, Manager, Certificates and Tariffs, at (801) 584-6857, Northwest Pipeline GP, P.O. Box 58900, Salt Lake City, Utah 84158-0900, or by e-mail pam.j.barnes@williams.com.

Any person may, within 60 days after the issuance of the instant notice by the Commission, file pursuant to Rule 214 of the Commission's Procedural Rules (18 CFR 385.214) a motion to intervene or notice of intervention. Any person filing to intervene or the Commission's staff may, pursuant to section 157.205 of the Commission's regulations under the NGA (18 CFR 157.205) file a protest to the request. If no protest is filed within the time allowed, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link. Persons unable to file electronically should submit an original and 7 copies of the protest or intervention to the Federal Energy Regulatory Commission, 888 First Street, NE., Washington, DC 20426.

Dated: August 5, 2011.
Kimberly D. Bose,
Secretary.

[FR Doc. 2011-20428 Filed 8-10-11; 8:45 am]

BILLING CODE 6717-01-P